DEPARTMENT OF DEFENSE

Department of the Air Force

HQ USAF Scientific Advisory Board

AGENCY: Department of the Air Force, DoD.

ACTION: Notice of meeting.

SUMMARY: Pursuant to Pub. L. 92-463, notice is hereby given of the forthcoming meeting of the Secretary's Advisory Group. The purpose of this meeting is to provide advice to the Secretary of the Air Force on short and long-term space-related strategy issues for the Air Force. This meeting will be closed to the public.

DATE: May 8, 2003.

ADDRESS: Room 4E869, The Pentagon, Washington, DC.

FOR FURTHER INFORMATION CONTACT: Lt. Col. John J. Pernot, Air Force Scientific Advisory Board Secretariat, 1180 Air Force Pentagon, Rm 5D982, Washington DC 20330-1180, (703) 697-4811.

Pamela D. Fitzgerald,
Air Force Federal Register Liaison Officer.

[FR Doc. 03-11246 Filed 5-6-03; 8:45 am]

BILLING CODE 5001-05-P